DEPARTMENT OF COMMERCE

[I.D. 080702D]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Application to Shuck Surf Clam/Ocean Quahogs At Sea.

Form Number(s): None.

OMB Approval Number: 0648-0240.

Type of Request: Regular submission.

Burden Hours: 1.

Number of Respondents: 2.

Average Hours Per Response: 5 minutes.

Needs and Uses: Vessel owners who wish to shuck their surf clam/ocean quahog catch while at sea must apply for a permit to do so. The National Marine Fisheries Service (NMFS) requires a permit so that it can identify vessels seeking to do so and to place a NMFS-approved observer aboard those vessels. An observer is necessary because the shucking of catch at sea makes it difficult to track the catch against harvest quotas.

Affected Public: Business or other for-profit organizations, individuals or households.

Frequency: On occasion.

Respondent's Obligation: Mandatory.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: August 5, 2002.
Gwellnar Banks,
Management Analyst, Office of the Chief Information Officer.

[FR Doc. 02-20381 Filed 8-9-02; 8:45 am]

BILLING CODE 3510-22-S